DEPARTMENT OF COMMERCE

International Trade Administration

AGENCY: International Trade Administration.

ACTION: Trade Event Notice.

SUMMARY: The U.S. Department of Commerce's International Trade Administration will announce its Clean Energy Trade Promotion Initiative at a White House Conference Center industry briefing on Tuesday, March 28, 2000, 2-4 PM. This initiative is designed to realize President Clinton's vision for enhanced exports of advanced U.S. company clean energy technology. It is composed of a series of trade missions designed to support U.S. energy industry exports to Brazil, China, India, Indonesia, Mexico, Qatar, Saudi Arabia, the United Arab Emirates and other select markets.

U.S. companies are invited to attend this briefing. The briefing will be held in the Truman Room of the White House Conference Center, 726 Jackson Place, NW (west side of Lafayette Park), on Tuesday, March 28, 2-4 PM.

FOR FURTHER INFORMATION CONTACT: Sam Beatty, International Trade Specialist, Office of Energy, Infrastructure and Machinery, 202-482-4179 or E-mail at Samuel_Beatty@ita.doc.gov.

Dated: March 10, 2000.
Sam Beatty,
Office of Energy, Infrastructure and Machinery.

[FR Doc. 00-6426 Filed 3-15-00; 8:45 am]

BILLING CODE 3510-DR-P